DEPARTMENT OF HOMELAND SECURITY

[Docket No. DHS-2014-0007]

Critical Infrastructure Private Sector Clearance Program Request (CI PSCP)

AGENCY: National Protection and Programs Directorate, DHS.

ACTION: 30-day notice and request for comments; new information collection request: 1670-0013.

SUMMARY: The Department of Homeland Security (DHS), National Protection and Programs Directorate (NPPD), Office of Infrastructure Protection (IP) will submit the following Information Collection Request to the Office of Management and Budget (OMB) for review and clearance in accordance with the Paperwork Reduction Act of 1995 (Pub. L. 104-13, 44 U.S.C. Chapter 35). DHS previously published this Information Collection Request (ICR) in the Federal Register on September 24, 2014, for a 60-day public comment period. DHS received no comments. The purpose of this notice is to allow an additional 30 days for public comments.

DATES: Comments are encouraged and will be accepted until January 12, 2015. This process is conducted in accordance with 5 CFR 1320.10.

ADDRESSES: Written comments and questions about this ICR should be forwarded to DHS/NPPD/IP/Attn: Cheryl Fenoli, 245 Murray Lane SW., Mail Stop 0607, Arlington, VA 20598-0609. Email requests should go to Cheryl Fenoli, Cheryl.Fenoli@hq.dhs.gov. Written comments should reach the contact person listed no later than January 12, 2015. Comments must be identified by “DHS-2014-0007”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: The CI PSCP sponsors clearances for private-sector partners who are responsible for critical infrastructure protection in accordance with Executive Order 13549. The PSCP requires individuals to complete a clearance request form that initiates the clearance process. Sector Specific Agencies (SSAs), NPPD/IP Protective Security Advisors, Sector Liaisons, the National Infrastructure Coordinating Center, and other federal officials designated by NPPD/IP are authorized to submit nominations to the central PSCP point of contact, the PSCP Administrator. The clearance request form is signed by both the federal official who nominated the applicant and by the Assistant Secretary for IP prior to initiating the clearance process. Upon approval by the Assistant Secretary for IP, IP Security Office will contact the nominee to obtain the social security number, date and place of birth, and will then enter this data into e-QIP—Office of Personnel Management's secure portal for investigation processing. Once the data is entered in e-QIP, the applicant can complete the online security questionnaire. An alternate mailing address is an optional field on the form and may be provided if the nominee chooses to have correspondences sent to a mailing address other than the company mailing address. The IP Security Office maintains all applicants' information in the Master Roster, which contains all the information found on the clearance request form in addition to their clearance information (date granted, level of clearance, date non-disclosure agreements signed, and type/date of investigation). The Administrator of the Master Roster maintains the information so as to track clearance processing and investigation information and to have the most current contact information for the participants from each sector.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Critical Infrastructure Private Sector Clearance Program Request.

OMB Number: 1670-0013.

Frequency: Once.

Affected Public: Designated private sector employees of critical infrastructure entities or organizations.

Number of Respondents: 500 respondents (estimate).

Estimated Time per Respondent: 10 minutes.

Total Burden Hours: 83.35.

Total Burden Cost (capital/startup): $0.

Total Recordkeeping Burden: $0.

Total Burden Cost (operating/maintaining): $0.

Dated: December 8, 2014.
David Epperson,
Chief Information Officer, National Protection and Programs Directorate, Department of Homeland Security.

[FR Doc. 2014-29175 Filed 12-11-14; 8:45 am]

BILLING CODE 9110-9P-P